DEPARTMENT OF HEALTH AND HUMAN SERVICES

National Institutes of Health

National Institute of Diabetes and Digestive and Kidney Diseases; Notice of Meeting

Pursuant to section 10(a) of the Federal Advisory Committee Act, as amended (5 U.S.C. Appendix 2), notice is hereby given of a meeting of the National Commission on Digestive Diseases.

The meeting will be open to the public, with attendance limited to space available. Individuals who plan to attend and need special assistance, such as sign language interpretation or other reasonable accommodations, should notify the Contact Person listed below in advance of the meeting.

Name of Committee: National Commission on Digestive Diseases.

Date: November 19, 2007.

Time: 9 a.m. to 5 p.m.

Agenda: Introductions; updates from Working Groups; Commission timeline and next steps; and general discussion. Pre-registration is required. Instructions will be available on the Commission's Web site at http://NCDD.niddk.nih.gov.

Place: Sofitel Chicago O'Hare, 5550 North River Road, Rosemont, IL 60018.

Contact Person: Stephen P. James, MD, Director, Division of Digestive Diseases & Nutrition, National Institute of Diabetes and Digestive and Kidney Diseases, NIH, 6707 Democracy Blvd., RM 677, Bethesda, MD 20892-5450, 301-594-7680, natlcommdd@mail.nih.gov.

Any interested person may file written comments with the committee by forwarding the statement to the Contact Person listed on this notice. The statement should include the name, address, telephone number and when applicable, the business or professional affiliation of the interested person.

(Catalogue of Federal Domestic Assistance Program Nos. 93.847, Diabetes, Endocrinology and Metabolic Research; 93.848, Digestive Diseases and Nutrition Research; 93.849, Kidney Diseases, Urology and Hematology Research, National Institutes of Health, HHS)

Dated: September 28, 2007.
Jennifer Spaeth,
Director, Office of Federal Advisory Committee Policy.

[FR Doc. 07-4924 Filed 10-3-07; 8:45 am]

BILLING CODE 4140-01-M